NATIONAL SCIENCE FOUNDATION

National Science Board; Sunshine Act Meetings; Notice

The National Science Board, pursuant to NSF regulations (45 CFR part 614), the National Science Foundation Act, as amended (42 U.S.C. 1862n-5), and the Government in the Sunshine Act (5 U.S.C. 552b), hereby gives notice in regard to the scheduling of meetings for the transaction of National Science Board business and other matters specified, as follows:

Agency Holding Meeting: National Science Board.

Date and Time: Tuesday, May 6, 2008, at 7:30 a.m.; and Wednesday, May 7, 2008, at 9 a.m.

Place: National Science Foundation, 4201 Wilson Blvd., Room 1235, Arlington, VA 22230. All visitors must report to the NSF visitor desk at the 9th and N. Stuart Streets entrance to receive a visitor's badge.

Status: Some portions open, some portions closed.

Open Sessions

May 6, 2008

7:30 a.m.-8:30 a.m.

8:30 a.m.-9:10 a.m.

9:10 a.m.-9:30 a.m.

9:30 a.m.-10 a.m.

10 a.m.-12 noon.

2 p.m.-3:30 p.m.

May 7, 2008

9:30 a.m.-10:30 a.m.

10:30 a.m.-12:00 noon

1:45 p.m.-1:50 p.m.

1:50 p.m.-3:45 p.m.

Closed Sessions

May 6, 2008

1 p.m.-2 p.m.

May 7, 2008

9 a.m.-9:30 a.m.

1 p.m.-1:30 p.m.

1:30 p.m.-1:45 p.m.

Agency Contact: Dr. Robert E. Webber, rwebber@nsf.gov, (703) 292-7000, http://www.nsf.gov/nsb/.

Matters to be Discussed:

Tuesday, May 6, 2008

CPP Subcommittee on Polar Issues

Open Session: 7:30 a.m.-8:30 a.m.

• Approval of March Minutes.

• SOPI Chairman's Remarks.

• OPP Director's Report.

• The Changing Antarctic Sea Ice.

• Emerging Multinational Collaborations.

CSB Task Force on Cost Sharing

Open Session: 8:30 a.m.-9:10 a.m.

• Approval of Minutes.

• Task Force Chairman's Remarks.

• Update on NSF Implementation of NSB Cost Sharing Recommendations.

• Discussion of July 9 and July 10, 2008 Roundtable Discussions on Cost Sharing.

• Discussion of NSF Advisory Committee Input on Cost Sharing.

CPP Task Force on Sustainable Energy

Open Session: 9:10 a.m.-9:30 a.m.

• Approval of Minutes for March 2008 Meeting.

• Task Force Co-Chairmen's Remarks.

• Discussion of June 19, 2008 Roundtable Discussion.

• Discussion of Topics for the Third Sustainable Energy Roundtable Discussion.

EHR Subcommittee on Science & Engineering Indicators

Open Session: 9:30 a.m.-10 a.m.

• Approval of March Minutes.

• Chairman's Remarks.

• Report on PCAST Meeting.

• Science and Engineering Indicators 2010.

Committee on Programs and Plans (CPP)

Open Session: 10 a.m.-12 noon

• Approval of Minutes for March 2008.

• Committee Chairman's Remarks.

• Status Reports:

○ Subcommittee on Polar Issues.

○ Task Force on Sustainable Energy.

• NSB Information Item: National Optical Astronomy Observatory (NOAO) and National Solar Observatory (NSO)—Future Action Item on a 5-year Cooperative Agreement Proposal from the Association of Universities for Research in Astronomy (AURA).

• NSB Information Item: Protein Data Bank.

• Discussion Item: Update on Review of MREFC Process.

• Discussion Item: Report to Congress on Interdisciplinary Research.

• Science Presentation: The Intertwinement of Fundamental Work in the SBE and Natural Sciences.

Closed Session: 1 p.m.-2 p.m.

• Committee Chairman's Remarks.

• NSB Action Item: Track-2 High-Performance Computing.

• NSB Action Item: Competition for the Management and Operation of the National Center for Atmospheric Research.

Committee on Strategy and Budget (CSB)

Open Session: 2 p.m.-3:30 p.m.

• Approval of CSB Minutes, March 26, 2008.

• Committee Chairman's Remarks.

• Panel Presentation on Open Access to Scholarly Literature.

• Status Report from CSB Task Force on Cost Sharing.

• Discussion of Draft Board Report on NSF Practices regarding Limitations on the Number of Proposal Submissions by a Single Institution.

• NSF Long-Range Plan.

• OMB Guidance and NSF Budget Development.

Wednesday, May 7, 2008

Audit and Oversight Committee (A&O)

Closed Session: 9 a.m.-9:30 a.m.

• Pending Investigations.

Open Session: 9:30 a.m.-10:30 a.m.

• Approval of Minutes of the March 27, 2008 Meeting.

• Committee Chairman's Opening Remarks.

• OIG Semiannual Report.

• Management Response to OIG Semiannual Report.

• Report to the Board on the NSF Merit Review Process, FY 2007.

• Chief Financial Officer's Update.

• FY2008 Audit Status Report.

Committee on Education and Human Resources (EHR)

Open Session: 10:30 a.m.-12 noon

• Approval of March 2008 Minutes.

• Committee Chairman's Remarks.

• Status of Subcommittee on Science and Engineering Indicators.

• Strengthening U.S. STEM Education through New Models of Collaboration: Business Higher Education Forum.

• K20 Partnerships at the University of Oklahoma.

• Discussion: National Math Panel.

• Discussion: Preparing the Next Generation of STEM Innovators.

• Board Executive Officer's Report.

Plenary Executive Closed

Closed Session: 1 p.m.-1:30 p.m.

• Approval of March 2008 Minutes.

• Elections for Chairman and Vice Chairman.

• Board Member Proposal.

Plenary Closed

Closed Session: 1:30 p.m.-1:45 p.m.

• Approval of March 2008 Minutes.

• Awards and Agreements.

• Closed Committee Reports.

Executive Committee

Open Session: 1:45 p.m.-1:50 p.m.

• Approval of Minutes for February 2008 Meeting.

• Annual Report of the Executive Committee.

• Updates or New Business from Committee Members.

Plenary Open

Open Session: 1:50 p.m.-3:45 p.m.

• Recognition of Class of 2008 and Executive Secretaries.

• Approval of March 2008 Minutes.

• Resolution to Close August 2008 Meeting.

• Chairman's Report.

• Director's Report.

• Open Committee Reports.

• Presentations by Honorary Awards Recipients.

Russell Moy,
Attorney-Advisor.

[FR Doc. E8-9653 Filed 5-1-08; 8:45 am]

BILLING CODE 7555-01-P